ENVIRONMENTAL PROTECTION AGENCY

[EPA-HQ-OW-2006-0958; FRL-8297-2]

Expedited Approval of Test Procedures for the Analysis of Contaminants Under the Safe Drinking Water Act; Analysis and Sampling Procedures

AGENCY: Environmental Protection Agency.

ACTION: Notice.

SUMMARY: This action announces the Environmental Protection Agency's (EPA's) intent to implement an expedited process for approving alternative testing methods for existing regulations for drinking water contaminants. The Safe Drinking Water Act (SDWA) authorizes EPA to approve the use of alternative testing methods through publication of a notice in the Federal Register instead of through rulemaking procedures. EPA plans to use this streamlined authority to make additional methods available for analyzing drinking water compliance and unregulated contaminant monitoring samples. This expedited approach will provide public water systems, laboratories, and primacy agencies with more timely access to new measurement techniques and greater flexibility in the selection of analytical methods, thereby reducing monitoring costs while maintaining public health protection.

This notice requests comments on implementation aspects of the expedited method approval process.

DATES: Comments must be received on or before June 11, 2007.

ADDRESSES: Submit your comments, identified by Docket ID No. EPA-HQ-OW-2006-0958, by one of the following methods:

• www.regulations.gov: Follow the on-line instructions for submitting comments.

• E-mail: OW-Docket@epa.gov.

• Fax: (202) 566-1749.

• Mail: Water Docket, Environmental Protection Agency, Mailcode: 4101T, 1200 Pennsylvania Ave., NW., Washington, DC 20460.

Instructions: Direct your comments to Docket ID No. EPA-HQ-OW-2006-0958. All comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm. For additional instructions on submitting comments, go to Section I.B of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Water Docket, EPA/DC, EPA West, Room 3334, 1301 Constitution Ave., NW., Washington DC. The Public Reading Room is open from 8:30 a.m. to 4:30 p.m., Monday through Friday, excluding legal holidays. The telephone number for the Public Reading Room is (202) 566-1744, and the telephone number for the Water Docket is (202) 566-2426.

FOR FURTHER INFORMATION CONTACT: Patricia Snyder Fair, Technical Support Center, Office of Ground Water and Drinking Water (MS 140), Environmental Protection Agency, 26 West Martin Luther King Drive, Cincinnati, OH 45268; telephone number: 513-569-7937; e-mail address: fair.pat@epa.gov.

SUPPLEMENTARY INFORMATION:

I. General Information

A. Does This Action Apply to Me?

This action itself does not impose any requirements on anyone. Instead, it notifies interested parties of EPA's intent to implement an expedited approval process for alternative testing procedures used to measure contaminants in drinking water and seeks comments on options for implementing the process.

B. What Should I Consider as I Prepare My Comments for EPA?

1. Submitting CBI. Do not submit confidential business information to EPA through www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. Your comments will be most helpful if you remember to:

• Identify the action by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

3. Timing. You must submit your comments by the comment period deadline identified above (see DATES).

Abbreviations and Acronyms Used in the Notice

ATP: Alternate Test Procedure

CFR: Code of Federal Regulations

EPA: Environmental Protection Agency

MCL: Maximum Contaminant Level

NPDWR: National Primary Drinking Water Regulations

NSDWR: National Secondary Drinking Water Regulations

SDWA: Safe Drinking Water Act

UCMR: Unregulated Contaminant Monitoring Regulations

U.S.C.: United States Code

VCSB: Voluntary Consensus Standard Body

Table of Contents

I. General Information

A. Does This Action Apply to Me?

B. What Should I Consider as I Prepare My Comments for EPA?

II. Background

A. What Is the Purpose of This Notice?

B. Statutory Background

C. How Does EPA Currently Approve Testing Methods for Drinking Water Contaminants?

III. Expedited Method Approval

A. What Is Expedited Method Approval?

B. Why Is EPA Implementing the Expedited Method Approval Process?

C. Will EPA Use This Process to Approve All New Methods?

D. Will EPA Also Use the New Expedited Process To Approve Alternative Methods for National Secondary Drinking Water Regulations and Unregulated Contaminants?

E. Will EPA Use This Process To Withdraw Approval for Methods?

F. How Often Will Methods Be Approved Using the Expedited Process?

G. How Will I Know When a Method Is Approved Using the Expedited Process?

H. Will There Be a Comprehensive List of All Methods Approved Using the Expedited Process?

I. Will a Regulation Tell Me Where To Find the Comprehensive List of Methods Approved Using the Expedited Process?

J. Will Regulatory Authorities Accept the Data Generated Using Methods Approved by the Expedited Approach?

K. Where Can I Find Copies of the Methods Approved by This Process?

L. Must My Laboratory Be Certified to Use these Methods?

M. Are Any Particular Methods Currently Under Consideration for Approval Using the Expedited Process?

IV. Request for Comment

V. References

II. Background

This section provides the purpose of this action, a brief statutory background on approval of testing methods for drinking water contaminants, and a description of how EPA currently approves drinking water testing methods.

A. What Is the Purpose of This Notice?

This action explains the expedited process that EPA plans to implement for the approval of testing methods for drinking water contaminants and seeks comments on specific aspects of the process.

B. Statutory Background

Analytical methods are approved by EPA to support three types of drinking water monitoring. Under the Safe Drinking Water Act (SDWA), EPA promulgates national primary drinking water regulations (NPDWRs) that specify maximum contaminant levels (MCLs) or treatment techniques for drinking water contaminants (SDWA section 1412 (42 U.S.C. 300g-1)). The NPDWRs apply to public water systems pursuant to SDWA section 1401(1)(A) (42 U.S.C. 300f(1)(A)). The NPDWRs include analytical testing methods that are used to measure compliance. Per SDWA section 1401(1)(D), NPDWRs include “* * * criteria and procedures to assure a supply of drinking water which dependably complies with such maximum contaminant levels; including accepted methods for quality control and testing procedures * * *” (42 U.S.C. 300f(1)(D)). In addition, SDWA section 1445(a)(1) authorizes the Administrator to establish regulations for monitoring to help determine whether persons are acting in compliance with the requirements of SDWA (42 U.S.C. 300j-4). EPA's promulgation of analytical methods for NPDWRs is authorized under these sections of SDWA as well as the general rulemaking authority in SDWA section 1450(a) (42 U.S.C. 300j-9(a)).

SDWA also authorizes EPA to promulgate national secondary drinking water regulations (NSDWRs) for contaminants in drinking water that primarily affect the aesthetic qualities relating to the public acceptance of drinking water (SDWA section 1412 (42 U.S.C. 300g-1)). These regulations are not Federally enforceable but are guidelines for the States (40 CFR 143.1). The NSDWRs also include analytical techniques for determining compliance with the regulations (40 CFR 143.4). EPA's promulgation of analytical methods for NSDWRs is authorized under general rulemaking authority in SDWA section 1450(a) (42 U.S.C. 300j-9(a)).

Section 1445(a)(2) of the Act gives EPA discretion in setting the process for approving analytical methods for unregulated contaminant monitoring. For consistency with the procedures for NPDWRs, EPA includes analytical methods in the unregulated contaminant monitoring regulations (UCMRs).

In the 1996 Amendments to SDWA, Section 1401(1) states the following: “At any time after promulgation of a regulation referred to in this paragraph, the Administrator may add equally effective quality control and testing procedures by guidance published in the Federal Register. Such procedures shall be treated as an alternative for public water systems to the quality control and testing procedures listed in the regulation.” By this action, EPA is stating that it plans to use this authority to develop an expedited process for establishing alternative testing methods for previously promulgated methods. Under this approach, EPA will publish a notice in the Federal Register rather than using a notice-and-comment rulemaking process to approve the use of alternative testing methods for existing regulations.

C. How Does EPA Currently Approve Testing Methods for Drinking Water Contaminants?

When EPA establishes a monitoring requirement for a drinking water contaminant, the Agency also specifies at least one reference analytical method that can be used to determine the contaminant's concentration in drinking water. Public water systems must currently use a testing method listed in the regulation when performing analyses of samples to demonstrate compliance or for use in unregulated contaminant monitoring.

Methods that are incorporated into the regulation are approved through a rulemaking process. In general, this means that EPA publishes a proposed rule, citing the method along with a discussion of how the method can be used to analyze samples. The method is proposed for approval in conjunction with monitoring requirements for one or more specific contaminants. EPA solicits public comment. After consideration of the comments, EPA decides whether to approve the method. If the method is deemed suitable, it is included in a final rule. The method is not approved for analysis of compliance or UCMR samples until it is referenced in a final rule.

EPA examines the performance characteristics of methods prior to proposing them in a regulation. In order for a method to be considered for approval, EPA generally requires that it meet a number of criteria, including the following:

• It must be applicable to routine analyses of samples.

• The method must be suitable for measuring the drinking water contaminant in the concentration range of interest.

• The accuracy and precision of the method must be such that data can be used to demonstrate compliance with the MCL or meet UCMR monitoring objectives in a wide variety of drinking water matrices.

• The method should include instructions for all aspects of the analysis from sample collection to data reporting.

• Appropriate quality control criteria should be incorporated so that acceptable method performance is demonstrated during the analysis of samples.

EPA attempts to approve multiple analytical methods for each contaminant in order to provide public water systems with flexibility in meeting their compliance or unregulated contaminant monitoring requirements. EPA also incorporates as much flexibility as is practical into reference methods that EPA develops itself. Subsequent to the establishment of monitoring requirements, EPA continues to evaluate additional analytical methods as they become available. New methods may be submitted to EPA through the Alternate Test Procedure (ATP) program or from Voluntary Consensus Standard Bodies (VCSBs) such as Standard Methods or ASTM International. Additional methods may also be developed by EPA or EPA may revise existing methods to incorporate improvements in technology, minimize use of hazardous solvents, or reduce the cost of the analysis. To date, when new or revised testing methods were deemed suitable for analyzing compliance or UCMR samples, EPA approved them through the rulemaking process (i.e., by soliciting public comments through a rule proposal and issuing a final rule after taking those comments into consideration). EPA periodically issues method update rules in order to approve additional testing methods.

III. Expedited Method Approval

A. What Is Expedited Method Approval?

Section 1401(1)(D) of SDWA, as amended in 1996, authorizes EPA to approve alternative testing methods outside the normal notice-and-comment rulemaking process. To use this expedited process, EPA must already have promulgated at least one analytical testing method for the contaminant in question through the normal rulemaking process. Once EPA has approved one testing method through the rulemaking process, section 1401(1)(D) allows EPA to approve additional (alternative) testing methods for the same contaminant through an expedited process that simply involves publishing the alternative method in the Federal Register. To use this expedited process, EPA must first find that the alternative testing method is “equally effective” as the method that was approved through rulemaking.

EPA will examine the performance characteristics of each new method being considered for approval using the expedited process in the same manner as is currently used when promulgating a method by regulation. The method will be evaluated on the basis of its selectivity, bias, precision, quantitation range and detection characteristics. In general, quality control procedures and criteria must be available to provide an on-going demonstration of method performance during the analysis of samples.

After a method is demonstrated to be suitable for analyzing compliance or unregulated contaminant monitoring samples for a specific contaminant, and EPA deems it to be “equally effective” as the originally promulgated method, EPA will publish a notice in the Federal Register to announce that determination. Because the rulemaking process will not be used, the alternative method will not be cited in the drinking water regulations (which are contained at 40 CFR Part 141). Only the originally promulgated method will continue to be cited in that manner. However, alternative methods approved using the expedited process will be fully available to public water systems for compliance or unregulated contaminant monitoring and reporting to the same extent as the methods that were approved through the normal rulemaking process.

B. Why Is EPA Implementing the Expedited Method Approval Process?

EPA encourages the development of new measurement technologies and the improvement of traditional analytical techniques. These advances often result in benefits such as shorter analysis times, minimized use of solvents, greater specificity in the analytical results, or more robust analytical procedures that are less prone to quality control failures. The benefits can lead to more cost effective monitoring.

The expedited method approval process will improve EPA's ability to make new technologies and improved analytical techniques available in a timely manner. Under the current process, after a method is shown to be suitable for analyzing drinking water compliance or unregulated contaminant monitoring samples, it cannot be used for that purpose until the rulemaking process is completed. The traditional rulemaking process in some cases can take two to three or more years to complete. This means the method is not available for monitoring for several years. Under the expedited process described in this notice, the method will be available as soon as EPA publishes a Federal Register notice announcing that the method can be used for analyzing drinking water compliance or UCMR samples. EPA anticipates most alternative methods will be approved in this manner within six to eight months after they are determined to be applicable to the analysis of compliance or UCMR samples.

C. Will EPA Use This Process To Approve All New Methods?

As stated above, EPA will use the expedited methods approval process only to approve additional testing methods for contaminants for which EPA has already promulgated regulations, including at least one analytical method.

EPA anticipates that the expedited process will be the primary mechanism used to approve additional testing methods. EPA expects to use this process to approve new or revised methods from sources such as:

• VCSBs, such as Standard Methods or ASTM International;

• Vendors who have submitted new technologies or methods to the ATP program; and

• EPA or other governmental organizations.

There may be instances in which EPA will seek public comment prior to approving a new or revised method because additional information is needed. In those cases, EPA will consider whether to still approve the new or revised method through the expedited process described in this notice or use the normal rulemaking process.

D. Will EPA Also Use the New Expedited Process To Approve Alternative Methods for National Secondary Drinking Water Regulations and Unregulated Contaminants?

Yes. In addition to using the expedited process with respect to NPDWRs, EPA plans to use the expedited process to approve additional test methods for national secondary drinking water regulations and unregulated contaminants as well. In both cases, there will need to be at least one test method that EPA has already specified and promulgated by regulation, and EPA will approve the alternative methods only upon finding that they are equally as effective as the specified method.

National secondary drinking water regulations, which are contained in 40 CFR Part 143, are not enforceable but are intended as guidelines for States. Analytical methods are specified in these guidelines at 40 CFR 143.4. EPA will use the expedited process to add any alternative methods that are equally as effective as the methods set forth in the guidelines.

For unregulated contaminants, under the authority of Section 1445(a)(2) of SDWA, EPA promulgates regulations that specify monitoring requirements, including analytical methods. See 40 CFR 141.40. Section 1445(a) gives EPA discretion in setting the process for approving analytical methods for the unregulated contaminants. For consistency with the procedures for NPDWRs, and given Congress's clear intent to expedite the process for adding analytical methods as new methods become available, EPA intends to use these expedited procedures to add methods for the unregulated contaminants as well.

E. Will EPA Use This Process To Withdraw Approval for Methods?

Under certain conditions, it may be necessary for EPA to withdraw approval of a testing method. For example, if an MCL is lowered to better protect public health, a method that was suitable for demonstrating compliance with the higher MCL may no longer have the necessary sensitivity. There may also be instances in which an approved method becomes obsolete because it uses hazardous reagents or fails to meet the performance characteristics of other approved methods.

EPA will not use the expedited process described in this notice to withdraw approval of any method that EPA originally approved through the rulemaking process. In that case, EPA will again use the rulemaking process to withdraw approval for such testing methods when necessary.

However, the new process will be used to withdraw approval of any method that was initially approved using the expedited process. EPA will withdraw approval of such a method by publishing a Federal Register notice describing EPA's rationale for the withdrawal and stipulating an effective date for the action.

F. How Often Will Methods Be Approved Using the Expedited Process?

EPA intends to use the expedited approval process in such a manner that methods are approved as soon as possible after they are determined to be suitable for analyzing drinking water compliance or UCMR samples. The frequency will depend on the number of methods that are awaiting approval and the urgency for that approval. For example, EPA may approve a single method using this process if exercising the expedited method could significantly benefit the public by reducing monitoring costs while maintaining data quality. Currently, EPA expects that the process will be implemented at least annually and that it will normally involve approval of multiple methods.

G. How Will I Know When a Method Is Approved Using the Expedited Process?

EPA will publish a notice in the Federal Register to announce the expedited method approvals. At a minimum, the notice will list the new method(s) being approved, the contaminant(s) for which each method approval is granted, a reference to the regulation that cites the reference method(s) for each contaminant, and information concerning where a copy of each method can be obtained.

EPA is also considering whether additional information should be included in the Federal Register notice. When EPA proposes approval of new methods using the regulatory process, the preamble to the proposed rule usually contains a brief description of the method, a summary of the method performance characteristics, and a discussion of the basis for the approval(s). The information is presented to better inform the reader so that public comment can be obtained. Under the expedited process, EPA does not anticipate publishing this particular information. However, EPA is using this Federal Register notice to solicit comment on the type of information that would be useful to the public and regulated entities when new methods are approved using the expedited process.

H. Will There Be a Comprehensive List of All Methods Approved Using the Expedited Process?

EPA plans to maintain a comprehensive list of methods approved through the expedited process. The public availability of the list is one of the subjects EPA is soliciting comment on in this notice. EPA anticipates that State agencies, public water systems, and laboratories will want access to a comprehensive list to simplify the tracking of method approvals listed in multiple Federal Register notices.

EPA is requesting input on whether a comprehensive list should be provided and if so, the mechanism for making it available. One option would be to list the methods in the Code of Federal Regulations (CFR) as an appendix to the drinking water regulations. A revised hard copy edition of the CFR is printed once per year, but it is continually updated electronically throughout the year and is available to the public through the Internet at http://ecfr.gpoaccess.gov. So, while the CFR hard copy would generally contain an up-to-date list of methods, it would not show methods that have been added since the previous published update.

A second option would be to list the methods on an EPA Web site. EPA would update the Web page each time a new method is approved. Under this option, the Federal Register notice would list the new method approvals and refer the public to the Web site for a complete listing of methods approved under the expedited process. The Web site could either show the list or provide a link for downloading a fact sheet with the list in an electronic format.

A third option would be to make the list available through the Safe Drinking Water Hotline or through an Agency designated contact for those who do not have Internet access.

A fourth option would combine some or all of the above approaches by listing the methods in an appendix to the CFR, on the Internet, and/or in a fact sheet available from the Agency.

I. Will a Regulation Tell Me Where To Find the Comprehensive List of Methods Approved Using the Expedited Process?

The current regulations at 40 CFR Parts 141 and 143 do not contain any information about where methods approved using the expedited process would be listed. EPA does not plan to immediately change the regulatory text when the expedited method approval process is implemented. If it would be helpful to add a cross-referencing statement in the NPDWRs, NSDWRs, and/or UCMRs, referring to a list of the methods approved using the expedited process so that regulated entities and the public could more easily find the information, EPA may consider such a change to the regulations in future actions.

One option would be to add a paragraph at 40 CFR 141.27, since this section deals with approval of alternate analytical techniques. The paragraph might state, “The methods listed in (location of list, per Section III.H, inserted here) may be used as alternatives to the methods listed in the NPDWRs, NSDWRs, and UCMR.”

A second option would be to add a footnote to each table of approved methods in the NPDWRs, NSDWRs and/or UCMR (i.e., 40 CFR 141.21(f)(3), 141.23(k)(1), 141.24(e), 141.25(a), 141.40, 141.74(a)(1), 141.131(b), (c), and (d) and 143.3(b)).

EPA is requesting comment on whether adding the location of the comprehensive list to future regulatory text is warranted, and if so, where that information should be added.

J. Will Regulatory Authorities Accept the Data Generated Using Methods Approved by the Expedited Approach?

In States, territories, and tribes in which EPA has primacy (which includes Wyoming, the District of Columbia, and all Indian lands except the Navajo), when EPA approves an alternative analytical method through the expedited process, a facility will generally be able to use either that new method or the originally promulgated method to meet its regulatory requirements for compliance or unregulated contaminant monitoring and reporting (although there may be State or local restrictions). Note that if a laboratory chooses to use a method approved under the expedited process, it must adhere to the written procedures described in the method and meet all the quality control criteria that are specified, just as it would for a method approved via regulation.

Where the State, territory or tribe has primacy (which, for States and territories, is in most cases), it is up to the State, territory, or tribe to decide whether to allow the use of alternative analytical methods that have been approved by EPA and, if allowed, the process for adopting those new methods within its own program. Since these decisions will vary from State to State, facilities will need to be aware of their Primacy Agency's own requirements prior to using an alternative method that EPA has approved under the expedited method approval process. Primacy Agencies are invited to provide comment on how methods approved under this new procedure will be implemented in their programs and if there are concerns that EPA can address when implementing this new approval process (in order to simplify or expedite Primacy Agency acceptance of the alternative methods).

K. Where Can I Find Copies of the Methods Approved by This Process?

The Federal Register notice announcing the approval of methods under the expedited process will include information concerning where the complete methods can be obtained. This information will also be included with the comprehensive list of methods approved under the expedited process.

A docket will be created each time EPA announces approval of methods under the expedited process and a copy of each method will be placed in the docket. All documents in the docket will be listed in the www.regulations.gov index. Publicly available docket materials, excluding copyrighted materials, will be available electronically in www.regulations.gov and in hard copy at the Water Docket. Copyrighted materials will only be available in hard copy at the Water Docket.

L. Must My Laboratory Be Certified to Use These Methods?

If the originally promulgated regulation requires that the laboratory be certified to perform analyses of compliance samples for a specific contaminant, then EPA plans to extend this requirement to use of methods approved through the expedited process. Similarly, if a “party approved by the State” is specified in the regulation, then EPA plans to extend this requirement to use of the alternative method.

M. Are Any Particular Methods Currently Under Consideration for Approval Using the Expedited Process?

In an effort to assist the public in understanding the expedited approval process, EPA is providing two examples of methods that are being considered for approval using this process. Approval is not being granted in this notice, but EPA anticipates approving them when the process is ultimately implemented. They are included herein so that the public can comment on the format of the listing and the type of information presented on each method.

1. EPA Method 200.5, Revision 4.2. Determination of Trace Elements in Drinking Water by Axially Viewed Inductively Coupled Plasma-Atomic Emission Spectrometry (USEPA, 2003)

Axially viewed inductively coupled plasma-atomic emission spectrometry can be used to determine concentrations of several trace elements and water matrix elements in drinking water. The performance characteristics of EPA Method 200.5, Revision 4.2 were compared to the characteristics of the methods listed at 40 CFR 141.23(k)(1) for the same contaminants. Based on this evaluation, EPA expects that it will be able to deem this method to be equally effective as the promulgated methods for determining antimony, arsenic, barium, beryllium, cadmium, chromium, copper, lead, and selenium concentrations. Therefore, EPA anticipates approving this method when the Expedited Approval Process is implemented in a future Federal Register notice (but again, EPA is not approving this method today).

EPA Method 200.5, Revision 4.2, can be accessed and downloaded directly on-line at http://www.epa.gov/nerlcwww/ordmeth.htm.

2. Standard Method 6610-04. High-Performance Liquid Chromatographic Method for Carbamate Pesticides (APHA, 2004)

High-performance liquid chromatography with post-column derivatization and fluorescence detection can be used to determine the concentrations of carbamate pesticides in drinking water. Standard Method 6610-04 is based on EPA Method 531.2 (USEPA, 2001), which is approved for analyzing compliance samples for carbofuran and oxamyl (40 CFR 141.24(e)(1)). Therefore, EPA expects that it will be able to deem Standard Method 6610-04 to be equally effective as the promulgated method for determining carbofuran and oxamyl concentrations in compliance samples. Thus, EPA anticipates approving this method when the Expedited Approval Process is implemented in a future Federal Register notice (but again, EPA is not approving this method today).

Standard Method 6610 B-04 is available at http://www.standardmethods.org.

Alternative Analytical Methods Under Consideration for Approval Using the Expedited Approval Process
Alternate method (being considered for approval) | Alternate methodology | Contaminant | Citation for methods approved by regulation
EPA Method 200.5, Revision 4.2 ¹ | AVICP-AES ² | Antimony | 40 CFR 141.23(k)(1)
EPA Method 200.5, Revision 4.2 | AVICP-AES | Arsenic | 40 CFR 141.23(k)(1)
EPA Method 200.5, Revision 4.2 | AVICP-AES | Barium | 40 CFR 141.23(k)(1)
EPA Method 200.5, Revision 4.2 | AVICP-AES | Beryllium | 40 CFR 141.23(k)(1)
EPA Method 200.5, Revision 4.2 | AVICP-AES | Cadmium | 40 CFR 141.23(k)(1)
EPA Method 200.5, Revision 4.2 | AVICP-AES | Calcium | 40 CFR 141.23(k)(1)
EPA Method 200.5, Revision 4.2 | AVICP-AES | Chromium | 40 CFR 141.23(k)(1)
EPA Method 200.5, Revision 4.2 | AVICP-AES | Copper | 40 CFR 141.23(k)(1)
EPA Method 200.5, Revision 4.2 | AVICP-AES | Lead | 40 CFR 141.23(k)(1)
EPA Method 200.5, Revision 4.2 | AVICP-AES | Magnesium | 40 CFR 141.23(k)(1)
EPA Method 200.5, Revision 4.2 | AVICP-AES | Selenium | 40 CFR 141.23(k)(1)
EPA Method 200.5, Revision 4.2 | AVICP-AES | Silica | 40 CFR 141.23(k)(1)
EPA Method 200.5, Revision 4.2 | AVICP-AES | Sodium | 40 CFR 141.23(k)(1)
Standard Method 6610-04 ³ | HPLC⁴ | Carbofuran | 40 CFR 141.23(k)(1)
Standard Method 6610-04 | HPLC | Oxamyl | 40 CFR 141.23(k)(1)
¹ EPA Method 200.5, Revision 4.2, “Determination of Trace Elements in Drinking Water by Axially Viewed Inductively Coupled Plasma-Atomic Emission Spectrometry,” USEPA, October 2003, EPA/600/R-06/115 can be accessed and downloaded directly on-line at http://www.epa.gov/nerlcwww/ordmeth.htm.
² Axially viewed inductively coupled plasma-atomic emission spectrometry (AVICP-AES).
³ Carbamate Pesticides—High-Performance Liquid Chromatographic Method. The Standard Method Online version that is approved is indicated by the last two digits in the method number which is the year of approval by the Standard Methods Committee. Standard Methods Online is available at http://www.standardmethods.org.
⁴ High-performance liquid chromatography (HPLC) in conjunction with a post-column derivatization system and a fluorescence detector.

IV. Request for Comment

EPA seeks comments on several aspects in the implementation of the expedited methods approval process. The information and comments submitted in response to this notice will be considered in determining the final details of the implementation process.

Specifically, EPA seeks comments on the following:

1. EPA requests comment on whether a comprehensive list of methods approved under the expedited process should be publicly maintained. If such a list is desirable, then how should EPA make it available?

• As an appendix in the CFR;

• On an EPA Web page;

• As a table or fact sheet available from an EPA designated contact;

• Using a combination of these approaches or other suggestions.

2. EPA requests comment on the type of information that should be included in the Federal Register notice when new method approvals are published using the expedited process. Is a list of the methods being approved sufficient or should the notice include additional information? If additional information is suggested, please indicate the types of information that are desirable and why.

3. EPA requests comment concerning the usefulness of amending future regulatory text to describe where a list of methods approved using the expedited process can be obtained. If such a change is desired, should a reference to the list be included:

• With each methods table;

• In 40 CFR 141.27 under Alternate Test Methods.

• Is there a better suggestion?

4. EPA requests comment on the format of the table that lists methods approved using the expedited approval process. Does the example provided in this notice provide enough information in a usable format or are there better suggestions for listing the information?

5. EPA invites Primacy Agencies to comment on how methods approved under this new procedure will be implemented in their programs and if there are concerns that EPA can address when implementing this new approval process (in order to simplify or expedite Primacy Agency acceptance of the alternative methods).

V. References

American Public Health Association (APHA). 2004. Standard Method 6610-04. Carbamate Pesticides—High-Performance Liquid Chromatographic Method. Standard Methods Online. (Available at http://www.standardmethods.org.)

USEPA. 2001. EPA Method 531.2. Measurement of N-methylcarbamoyloximes and N-methylcarbamates in Water by Direct Aqueous Injection HPLC with Postcolumn Derivatization. Revision 1.0. EPA 815-B-01-002. (Available at http://www.epa.gov/safewater/methods/sourcalt.html.)

USEPA. 2003. EPA Method 200.5. Determination of Trace Elements in Drinking Water by Axially Viewed Inductively Coupled Plasma-Atomic Emission Spectrometry. Revision 4.2. EPA/600/R-06/115. (Available at http://www.epa.gov/nerlcwww/ordmeth.htm.)

Dated: March 30, 2007.
Benjamin H. Grumbles,
Assistant Administrator, Office of Water.

[FR Doc. E7-6726 Filed 4-9-07; 8:45 am]

BILLING CODE 6560-50-P